DEPARTMENT OF AGRICULTURE

Forest Service

Forest Resource Coordinating Committee

AGENCY: Forest Service, USDA.

ACTION: Notice of meeting.

SUMMARY: The Forest Resource Coordinating Committee (Committee) will meet in Washington, DC. The Committee is authorized under section 8005 of the Food, Conservation, and Energy Act of 2008 (the Act) (Pub. L. 110-246). Additional information concerning the Committee, including the meeting agenda, supporting documents and minutes, can be found by visiting the Committee's Web site at http://www.fs.fed.us/spf/coop/frcc/.

DATES: The meeting will be held on the following dates:

1. May 25, 2016, from 8:00 a.m. to 5:00 p.m. Eastern Daylight Time (EDT); and

2. May 25, 2016, from 8:00 a.m. to 5:00 p.m. EDT.

The meeting is subject to cancellation. For status of the meeting prior to attendance, please contact the person listed under For Further Information Contact.

ADDRESSES: The meeting will be held at the USDA Forest Service, Sidney R. Yates Building, Pinchot Conference Room, 201 14th Street SW., Washington, DC. Members of the public should RSVP to facilitate entry into the Yates Building.

Written comments may be submitted as described under Supplementary Information. All comments, including names and addresses when provided, are placed in the record and are available for public inspection and copying. The public may inspect comments placed on the Committee's Web site listed above.

FOR FURTHER INFORMATION CONTACT: Andrea Bedell-Loucks, Designated Federal Officer, by phone at 202-205-1190; or Lori McKean, Committee Coordinator, by phone at 570-296-9672.

Individuals who use telecommunication devices for the deaf (TDD) may call the Federal Information Relay Service (FIRS) at 1-800-877-8339 between 8:00 a.m. and 8:00 p.m., Eastern Daylight Time, Monday through Friday.

SUPPLEMENTARY INFORMATION: The purpose of the meeting is to:

1. Learn how to frame recommendations;

2. Hear about Office of Sustainability & Climate Changes' State & Private Forestry Climate Change Performance Scorecard; and

3. Refine outreach strategies to key partners.

The meeting is open to the public. The agenda will include time for people to make oral statements of three minutes or less. Individuals wishing to make an oral statement should submit a request in writing by May 13, 2016, to be scheduled on the agenda. Anyone who would like to bring related matters to the attention of the Committee may file written statements with the Committee staff before May 1, 2016. Written comments and time requests for oral comments must be sent to Andrea Bedell-Loucks, 1400 Independence Avenue SW., Mailstop 1123, Washington, DC 20250; or by email to abloucks@fs.fed.us. A summary of the meeting will be posted on the Committee's Web site listed above within 21 days after the meeting.

Meeting Accommodations: If you are a person requiring reasonable accommodation, please make requests in advance for sign language interpreting, assistive listening devices, or other reasonable accommodations. For access to the facility or proceedings, please contact the person listed under the FOR FURTHER INFORMATION CONTACT. All reasonable accommodation requests are managed on a case by case basis.

Dated: April 11, 2016.
James E. Hubbard,
Deputy Chief, State and Private Forestry.

[FR Doc. 2016-08805 Filed 4-15-16; 8:45 am]

BILLING CODE 3411-15-P